Title 3—

The President

Executive Order 14082 of September 12, 2022

Implementation of the Energy and Infrastructure Provisions of the Inflation Reduction Act of 2022

By the authority vested in me as President by the Constitution and the laws of the United States of America, and in order to effectively implement the historic energy and infrastructure provisions in Public Law 117-169, commonly referred to as the Inflation Reduction Act of 2022 (the “Act”), and to accelerate United States global leadership in clean energy innovation, manufacturing, and deployment in a way that cuts consumer energy costs, creates well-paying union jobs and sustainable and equitable economic opportunity, advances environmental justice, and addresses the climate crisis, it is hereby ordered as follows:

Section 1. Background. The Act is the single largest and most ambitious investment in the ability of the United States to advance clean energy, cut consumer energy costs, confront the climate crisis, promote environmental justice, and strengthen energy security, among other vital provisions that will lower costs for families, reduce the deficit, and grow and strengthen the economy. The Act will:

(a) build on the once-in-a-generation investment in the infrastructure and competitiveness of the United States set forth in the Infrastructure Investment and Jobs Act (Public Law 117-58) by accelerating the deployment of clean energy technologies, making home energy efficiency and clean energy installations more affordable, and incentivizing the purchase of electric vehicles;

(b) boost energy security and lower energy costs for families, businesses, and government;

(c) revitalize American manufacturing by investing in domestic clean energy supply chains and creating well-paying union jobs, including in traditional energy communities;

(d) improve public health and advance environmental justice and economic opportunity for frontline communities who disproportionately bear the brunt of cumulative exposure to industrial and energy pollution;

(e) promote climate justice by reducing harmful greenhouse gas emissions in line with the goal of realizing net-zero emissions by no later than 2050;

(f) harness nature-based solutions—including climate-smart agriculture and forestry—that deliver economic benefits for rural communities, Tribes, farmers, ranchers, and forest landowners;

(g) expand research and accelerate innovation in the development of clean energy, climate, and related technologies; and

(h) increase the resilience of our communities in the face of a changing climate.

Achieving these goals will require effective implementation of the Act by my Administration, as well as by State, local, Tribal, and territorial governments.

Sec. 2. Implementation Priorities. In implementing the Act, all agencies (as described in section 3502(1) of title 44, United States Code, except for the agencies described in section 3502(5) of title 44) shall, as appropriate and to the extent consistent with law, prioritize:

(a) investing public dollars effectively and efficiently, working to avoid waste, and achieving measurable, demonstrable outcomes for the American people;

(b) driving progress to achieve the climate goals of the United States to reduce greenhouse gas emissions 50-52 percent below 2005 levels in 2030, achieve a carbon pollution-free electricity sector by 2035, and achieve net-zero emissions by no later than 2050;

(c) advancing environmental and climate justice through an all-of-government approach, including through the Justice40 Initiative set forth in Executive Order 14008 of January 27, 2021 (Tackling the Climate Crisis at Home and Abroad), to protect and improve the health and well-being of fence-line and frontline communities in the United States;

(d) promoting construction of clean energy generation, storage, and transmission, and enabling technologies through efficient, effective mechanisms that incorporate community engagement;

(e) increasing the competitiveness of the United States economy and investment in critical supply chains, including through the Act's incentives and measures to strengthen domestic manufacturing and supply chains;

(f) increasing high-quality job opportunities for American workers and improving equitable access to these jobs, including in traditional energy communities, through the timely implementation of the Act's requirements for prevailing wages and registered apprenticeships and by focusing on high labor standards and the free and fair chance to join a union;

(g) reducing energy costs for working families, businesses, and governments at all levels while increasing energy security for the benefit of United States economic competitiveness and national security;

(h) accelerating innovation by directing the scientific and technical expertise of America's researchers, businesses, and workers toward achieving breakthroughs in clean energy and climate technologies; and

(i) effectively coordinating with State, local, Tribal, and territorial governments, as well as with private-sector stakeholders and nongovernmental organizations, in implementing the critical investments outlined in this section to build sustainable, resilient communities.

Sec. 3. White House Office on Clean Energy Innovation and Implementation. There is hereby established the White House Office on Clean Energy Innovation and Implementation within the Executive Office of the President, which shall coordinate the policymaking process with respect to implementing the energy and infrastructure provisions of the Act and other essential initiatives. The White House Office on Clean Energy Innovation and Implementation shall have a staff headed by the Senior Advisor for Clean Energy Innovation and Implementation; shall have such staff and other assistance as may be necessary to carry out the provisions of this order, subject to the availability of appropriations; and may work with established or ad hoc committees and interagency groups.

Sec. 4. Interagency Coordination. (a) To further the robust implementation of the energy and infrastructure provisions of the Act, Executive Order 14008 is amended as follows:

(i) The introductory text following the heading for section 203 is revised to read as follows: “There is hereby established a National Climate Task Force (Task Force). The Task Force shall be chaired by the Senior Advisor for Clean Energy Innovation and Implementation. The National Climate Advisor shall serve as Vice Chair.”.

(ii) Section 203(a) is revised to read as follows:

“(a) Membership. The Task Force shall consist of the following additional members:

(i) the Secretary of the Treasury;

(ii) the Secretary of Defense;

(iii) the Attorney General;

(iv) the Secretary of the Interior;

(v) the Secretary of Agriculture;

(vi) the Secretary of Commerce;

(vii) the Secretary of Labor;

(viii) the Secretary of Health and Human Services;

(ix) the Secretary of Housing and Urban Development;

(x) the Secretary of Transportation;

(xi) the Secretary of Energy;

(xii) the Secretary of Education;

(xiii) the Secretary of Homeland Security;

(xiv) the Administrator of the Environmental Protection Agency;

(xv) the Director of the Office of Management and Budget;

(xvi) the Director of the Office of Science and Technology Policy;

(xvii) the Administrator of the Small Business Administration;

(xviii) the Chair of the Council on Environmental Quality;

(xix) the Assistant to the President for National Security Affairs;

(xx) the Assistant to the President for Domestic Policy;

(xxi) the Assistant to the President for Homeland Security and Counterterrorism;

(xxii) the Assistant to the President for Economic Policy;

(xxiii) the Administrator of the National Aeronautics and Space Administration;

(xxiv) the Chief Executive Officer of the Corporation for National and Community Service;

(xxv) the Administrator of General Services;

(xxvi) the White House Infrastructure Coordinator; and

(xxvii) the heads of such other departments, agencies, and offices as the Chair or Vice Chair may from time to time invite to participate.”.

(iii) To expand the mission of the National Climate Task Force to include coordinating effective implementation of the Act, as outlined in section 2 of this order, the second sentence of section 203(b) is revised to read as follows: “This Task Force shall facilitate planning and implementation of key Federal actions to reduce climate pollution; increase resilience to the impacts of climate change; protect public health; conserve our lands, waters, oceans, and biodiversity; deliver environmental justice; spur well-paying union jobs and economic growth; coordinate effective implementation of Public Law 117-169, commonly referred to as the Inflation Reduction Act of 2022, in coordination with the Infrastructure Implementation Task Force established in Executive Order 14052 of November 15, 2021 (Implementation of the Infrastructure Investment and Jobs Act), as appropriate; and accelerate clean energy innovation and deployment.”.

(iv) The introductory text following the heading for section 218 is revised to read as follows: “There is hereby established an Interagency Working Group on Coal and Power Plant Communities and Economic Revitalization (Interagency Working Group). The National Climate Advisor, the Assistant to the President for Economic Policy, and the Senior Advisor for Clean Energy Innovation and Implementation shall serve as Co-Chairs of the Interagency Working Group.”.

(b) Section 1-102(b) of Executive Order 12898 of February 11, 1994 (Federal Actions to Address Environmental Justice in Minority Populations and Low-Income Populations), as amended by section 220(a) of Executive Order 14008, is further amended by revising subsection (xvii) and (xviii) and adding subsection (xix) to read as follows: “(xvii) the Assistant to the President for Domestic Policy; (xviii) the Assistant to the President for Economic Policy; and (xix) the Senior Advisor for Clean Energy Innovation and Implementation.”.

(c) To further support implementation of the energy and infrastructure provisions of the Act, section 3(d) of Executive Order 14052 of November 15, 2021 (Implementation of the Infrastructure Investment and Jobs Act), is amended by striking “and” at the end of subsection (xi), striking subsection (xii), and adding in lieu thereof the following: “(xii) the Senior Advisor for Clean Energy Innovation and Implementation; and (xiii) the heads of such other executive departments, agencies, and offices as the Co-Chairs may from time to time invite to participate.”.

Sec. 5. General Provisions. (a) Nothing in this order shall be construed to impair or otherwise affect:

(i) the authority granted by law to an executive department or agency, or the head thereof; or

(ii) the functions of the Director of the Office of Management and Budget relating to budgetary, administrative, or legislative proposals.

(b) This order shall be implemented consistent with applicable law and subject to the availability of appropriations.

(c) This order is not intended to, and does not, create any right or benefit, substantive or procedural, enforceable at law or in equity by any party against the United States, its departments, agencies, or entities, its officers, employees, or agents, or any other person.

THE WHITE HOUSE,

September 12, 2022.

[FR Doc. 2022-20210

Filed 9-15-22; 8:45 am]

Billing code 3395-F2-P